DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before March 31, 2005.

ADDRESSES: Written data or comments should be submitted to the U.S. Fish and Wildlife Service, Chief, Endangered Species, Ecological Services, 911 NE 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-095896

Applicant: Phillip Richards, Ladera Ranch, California.

The applicant requests a permit to take (capture and mark) the San Bernardino kangaroo rat (Dipodomys merriami parvus), the Stephens' kangaroo rat (Dipodomys stephensi), and the Pacific pocket mouse (Perognathus longimembris pacificus) in conjunction with surveys throughout the range of the species for the purpose of enhancing their survival.

Permit No. TE-098999

Applicant: California Department of Fish and Game, Redding, California.

The applicant requests a permit to take (capture and collect and sacrifice) the Conservancy fairy shrimp (Branchinecta conservatio) and the vernal pool tadpole shrimp (Lepidurus packardi) in conjunction with scientific research in northern California for the purpose of enhancing their survival.

Permit No. TE-098997

Applicant: Gregory Warrick, Bakersfield, California.

The applicant requests a permit to take (capture and mark) the Tipton kangaroo rat (Dipodomys nitratoides nitratoides) and the Giant kangaroo rat (Dipodomys ingens) in conjunction with ecological research and surveys throughout the range of each species for the purpose of enhancing their survival.

Permit No. TE-821962

Applicant: Mark Angelos, Torrence, California.

The permittee requests an amendment to take (capture and release) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-821967

Applicant: Paul Galvin, Irvine, California.

The permittee requests an amendment to take (survey and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-098706

Applicant: Bureau of Land Management, El Centro, California.

The applicant requests a permit to take (survey by pursuit) the Quino checkerspot butterfly (Euphydryas editha quino) in conjunction with surveys in San Diego County, California, for the purpose of enhancing its survival.

Permit No. TE-099709

Applicant: William Gendron, Pomona, California.

The applicant requests a permit to take (survey by pursuit) the Quino checkerspot butterfly (Euphydryas editha quino) in conjunction with surveys throughout the range of the species in California for the purpose of enhancing its survival.

Permit No. TE-099005

Applicant: Martha Heath, San Diego, California.

The applicant requests a permit to take (survey by pursuit) the Quino checkerspot butterfly (Euphydryas editha quino) in conjunction with surveys throughout the range of the species in California for the purpose of enhancing its survival.

Permit No. TE-098994

Applicant: Kelly Goocher, Oceanside, California.

The applicant requests a permit to take (survey by pursuit) the Laguna Mountains skipper (Pyrgus ruralis lagunae) and take (locate and video monitor nests) the least Bell's vireo (Vireo bellii pustillus) in conjunction with surveys throughout the range of each species in California for the purpose of enhancing their survival.

Permit No. TE-099265

Applicant: Russell Smith, Woodland Hills, California.

The applicant requests a permit to take (survey by pursuit, capture, handle, take, mark, translocate, hold in captivity, breed in captivity, and release to the wild) the mountain yellow-legged frog (Rana muscosa) in conjunction with recovery efforts throughout the range of the species in California for the purpose of enhancing its survival.

We solicit public review and comment on each of these recovery permit applications.

Dated: February 22, 2005.
Michael Fris,
Acting Manager, California/Nevada Operations Office, U.S. Fish and Wildlife Service.

[FR Doc. 05-3887 Filed 2-28-05; 8:45 am]

BILLING CODE 4310-55-P